DEPARTMENT OF LABOR

Office of the Secretary

Child Labor Education Initiative

AGENCY: Bureau of International Labor Affairs, U.S. Department of Labor.

Announcement Type: Notice of intent to solicit cooperative agreement applications.

SUMMARY: The U.S. Department of Labor (USDOL), Bureau of International Labor Affairs (ILAB), intends to award approximately U.S. $17 million to organizations to develop and implement formal, non-formal, and vocational education programs as a means to combat exploitive child labor in the following countries: Mozambique, Angola, Sierra Leone, Liberia, Ecuador, Bolivia, and Guyana. ILAB intends to solicit cooperative agreement applications from qualified organizations (i.e., any commercial, international, educational, or non-profit organization capable of successfully developing and implementing education programs) to implement programs that promote school attendance and provide educational opportunities for working children or children at risk of starting to work. The programs should focus on innovative ways to provide educational services to children engaged, or at risk of engaging, in exploitive labor and should address the many gaps and challenges to basic education found in the countries mentioned above. Please refer to http://www.dol.gov/ILAB/grants/main.htm for examples of previous notices of availability of funds and solicitations for cooperative agreement applications.

Information on the specific sectors, geographical regions, and funding levels on the potential projects in the countries listed above will be addressed in solicitations for cooperative agreement applications to be published prior to September 30, 2005. Thus, we request that inquiries to USDOL for such information be limited until publication of the solicitations. For a list of frequently asked questions on Child Labor Education Initiative Solicitations for Cooperative Agreement Applications, please visit http://www.dol.gov/ILAB/faq/faq36.htm.

USDOL will hold a bidder's meeting on Tuesday, April 12, 2005 to answer any questions potential applicants may have on Child Labor Education Initiative Solicitations for Cooperative Agreement Applications. Please see below for more information on the bidder's meeting.

DATES: Specific solicitations for cooperative agreement applications will be published in the Federal Register and remain open for at least 30 days from the date of publication. All cooperative agreement awards will be made on or before September 30, 2005.

ADDRESSES: Once solicitations are published in the Federal Register, applications must be delivered to: U.S. Department of Labor, Procurement Services Center, 200 Constitution Avenue, NW., Room N-5416, Attention: Lisa Harvey, Washington, DC 20210.

FOR FURTHER INFORMATION CONTACT: Ms. Lisa Harvey. E-mail address: harvey.lisa@dol.gov. All inquiries should make reference to the USDOL Child Labor Education Initiative—Solicitations for Cooperative Agreement Applications.

Bidder's Meeting: A bidder's meeting will be held in Washington, DC, on Tuesday, April 12, 2005. The purpose of this meeting is to provide potential applicants the opportunity to ask questions concerning the Child Labor Education Initiative Solicitation for Cooperative Agreement process. Specific details on the time and location of the meeting will be sent to interested parties in early April 2005. To register for the meeting please call or e-mail Ms. Alexa Gunter (Phone: 202-693-4829; e-mail: gunter-alexa@dol.gov) by Thursday, March 31, 2005. Please provide Ms. Gunter with the name, organization, address, phone number, and e-mail address of the attendees.

Background Information: Since 1995, USDOL has supported a worldwide technical assistance program implemented by the International Labor Organization's International Program on the Elimination of Child Labor (ILO-IPEC). ILAB has provided over U.S. $400 million to ILO-IPEC and other organizations for international technical assistance to combat abusive child labor around the world.

In its FY 2005 appropriations, in addition to funds earmarked for ILO-IPEC, USDOL received U.S. $34 million to provide bilateral assistance to improve access to basic education in international areas with a high rate of abusive and exploitive child labor. All such FY 2005 funds will be obligated on or before September 30, 2005.

USDOL's Child Labor Education Initiative nurtures the development, health, safety, and enhanced future employability of children around the world by increasing access to basic education for children removed from child labor or at risk of entering it. Eliminating child labor will depend in part on improving access to, quality of, and relevance of education. Without improving educational access, quality, and relevance, children withdrawn from child labor may not have viable alternatives and may return to work or resort to other hazardous means of subsistence.

In addition to increasing access to education and eliminating exploitive child labor, the Child Labor Education Initiative has the following four strategic goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

When working to increase access to quality basic education, USDOL strives to complement existing efforts to eradicate the worst forms of child labor, to build on the achievements of and lessons learned from these efforts, to expand impact and build synergies among actors, and to avoid duplication of resources and efforts.

Signed in Washington, DC, this 9th day of March, 2005.
Lisa Harvey,
Grant Officer.

[FR Doc. 05-4990 Filed 3-14-05; 8:45 am]

BILLING CODE 4510-28-P